DEPARTMENT OF TRANSPORTATION

Federal Aviation Administration

Notice of Intent To Prepare an Environment Impact Statement; Fort Lauderdale-Hollywood International Airport, Fort Lauderdale, FL

AGENCY: Federal Aviation Administration, DOT.

ACTION: Notice of intent; Notice of Scoping Meetings.

SUMMARY: The Federal Aviation Administration (FAA) is issuing this Notice of Intent to announce publicly that an Environmental Impact Statement (EIS) will be prepared and considered for the proposed extension of Runway 9R/27L including associated improvements described below at the Fort Lauderdale-Hollywood International Airport.

FOR FURTHER INFORMATION CONTACT: Ms. Virginia Lane, Federal Aviation Administration, Orlando Airports District Office, 5950 Hazeltine National Drive, Suite 400, Orlando, Florida 32822-5024, (407) 812-6331 extension 129.

SUPPLEMENTARY INFORMATION: This notice announces that the FAA, in cooperation with Broward County, Florida, will prepare an EIS for a proposed project to lengthen and widen Runway 9R/27L at the Fort Lauderdale-Hollywood International Airport to a full length of 8,600 feet by 150 feet wide. The existing dimension of Runway 9R/27L is 5,276 feet by 100 feet, which accommodates both general aviation and commuter aircraft. The proposed project would allow commercial jet aircraft to utilize the extended runway.

An extension of the existing parallel taxiway and connecting taxiways to Runway 9R/27L is also proposed. The proposed project would entail construction activity on airport property and in Florida East-Coast Railway and Florida Department of Transportation rights-of-way (i.e., site preparation, drainage, paving, marking, lighting, fencing, NAVAIDS, obstruction clearing, environmental mitigation, and other associated work required for the runway extension).

The EIS will include the evaluation of a no-build alternative and other reasonable alternatives that may be identified during the agency and public scoping meetings. The proposed runway extension would accommodate the forecast traffic at Fort Lauderdale-Hollywood International Airport through the year 2017. Fort Lauderdale-Hollywood International Airport has experienced growth in aircraft activity in recent years that has led to delays in aircraft operations. The FAA's Airport Capacity Benchmark Report of 2001 identified Fort Lauderdale-Hollywood International Airport as a congested airport. The Airport Master Plan accepted on April 19, 1995, and more recently the Leigh Fisher Associates Report of November 2003 indicated that significant future airfield congestion and aircraft delay could be anticipated without some modification to the existing airfield facilities.

Increased use of the extended runway by air carrier aircraft will result in changes in runway use. The EIS will determine any noise impacts associated with changes in runway use. In addition to noise impacts, the EIS will determine all environmental impacts, such as and not limited to, impacts on air and water quality, wetlands, ecological resources, floodplains, historic resources, hazardous wastes, coastal zone management, socioeconomics and economic factors.

Scoping: To ensure that the full range of issues related to the proposed project are addressed and that all significant issues are identified, comments and suggestions are invited from all interested parties. Public and agency scoping meetings will be conducted to identify any significant issues associated with the proposed project.

An Agency Scoping meeting for all Federal, state, and local environmental regulatory agencies will be held on February 23, 2005. This meeting will take place at 1 p.m. in the Sheraton Fort Lauderdale Airport Hotel, 1825 Griffin Road, Dania, Florida 33004.

A Public Scoping meeting for the general public will be held on February 24, 2005. This meeting will be conducted between 2 p.m. and 8 p.m. in the Paramount Ballroom and Foyer at the Sheraton Fort Lauderdale Airport Hotel, 1825 Griffin Road, Dania, Florida 33004.

Written comments may be mailed to the Informational contact listed above within 30 days following the scoping meeting.

Questions may be directed to the individual named above under the heading, FOR FURTHER INFORMATION CONTACT.

Issued in Orlando, Florida, January 19, 2005.
W. Dean Stringer,
Manager, Orlando Airports District Office.

[FR Doc. 05-965 Filed 1-18-05; 8:45 am]

BILLING CODE 4910-13-M